DEPARTMENT OF TRANSPORTATION

National Highway Traffic Safety Administration

49 CFR Part 574

[Docket No. NHTSA-2014-0084]

RIN 2127-AL54

Tire Identification and Recordkeeping

AGENCY: National Highway Traffic Safety Administration (NHTSA), Department of Transportation.

ACTION: Notice of proposed rulemaking (NPRM).

SUMMARY: The tire identification number (TIN), which must appear on virtually all new and retreaded motor vehicle tires sold in the United States, plays an important role in identifying which tires are subject to recall and remedy campaigns for safety defects and noncompliances. This document proposes two amendments to the TIN. First, because NHTSA is running out of two-symbol codes to identify new tire plants, NHTSA is proposing to expand the first portion of the TIN, known as the manufacturer identifier, from two symbols to three for manufacturers of new tires. This amendment would substantially increase the number of unique combinations of characters that can be used to identify individual manufacturers of new tires. Second, NHTSA is proposing to standardize the length of the tire identification number to eliminate confusion that could arise from the variable length of tire identification numbers. This NPRM would standardize the length of the TIN at 13 symbols for new tires and 7 symbols for retreaded tires, making it easier to identify a TIN from which a symbol is missing.

DATES: Submit comments on or before August 25, 2014.

ADDRESSES: You may submit comments electronically to the docket identified in the heading of this document by visiting the following Web site:

• Federal eRulemaking Portal: Go to http://www.regulations.gov. Follow the online instructions for submitting comments.

Alternatively, you can file comments using the following methods:

• Mail: Docket Management Facility: U.S. Department of Transportation, 1200 New Jersey Avenue SE., West Building Ground Floor, Room W12-140, Washington, DC 20590-0001.

• Hand Delivery or Courier: West Building Ground Floor, Room W12-140, 1200 New Jersey Avenue SE., between 9 a.m. and 5 p.m. ET, Monday through Friday, except Federal holidays.

• Fax: (202) 493-2251.

Regardless of how you submit your comments, you should mention the docket number identified in the heading of this document.

Instructions: For detailed instructions on submitting comments and additional information on the rulemaking process, see the Public Participation heading of the Supplementary Information section of this document. Note that all comments received will be posted without change to http://www.regulations.gov, including any personal information provided. Please see the Privacy Act heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78).

Docket: For access to the docket to read background documents or comments received, go to http://www.regulations.gov. Follow the online instructions for accessing the dockets.

FOR FURTHER INFORMATION CONTACT: For technical issues, you may contact Chris Wiacek, Office of Crash Avoidance Standards, by telephone at (202) 366-4801. For legal issues, you may contact David Jasinski, Office of the Chief Counsel, by telephone at (202) 366-2992, and by fax at (202) 366-3820. You may send mail to both of these officials at the National Highway Traffic Safety Administration, 1200 New Jersey Avenue SE., Washington, DC 20590.

SUPPLEMENTARY INFORMATION:

I. Background

In January 1971, the agency established a requirement in 49 CFR part 574 for a tire identification number (TIN) that must be labeled on one sidewall of each tire that is newly manufactured or retreaded.¹ The purpose of the TIN is to facilitate notification of purchasers of defective or noncompliant tires. Furthermore, the information contained in the TIN may be used by consumers to obtain information about the tire such as the actual manufacturer of the tire (in the case of a tire sold under a different brand) and the date of manufacture. Part 574 also provides for the registration of tires, including the collection of the TIN and the contact information of purchasers of tires, to enable manufacturers to notify tire owners of recalls.

¹ 36 FR 1196 (Jan. 26, 1971).

From its adoption in 1971, the TIN has consisted of up to four groups of symbols. The first group of symbols identifies the manufacturer of the tire. Each tire plant has its own identifier; thus, one tire manufacturer may have multiple codes. Although part 574 has referred to this grouping as the manufacturer's identification mark, it may also be known informally as a “plant code.” For new tires, this code consists of two symbols and for retreaded tires, the code consists of three symbols. This plant code is assigned to new manufacturers and retreaders who contact NHTSA and provide contact information and information about what types of tires they are producing.

The second and third groupings provide information about the tire itself. The second grouping is up to two characters and identifies the tire size. Although the original TIN requirement had a list of tire sizes and two-symbol codes, the agency has since left it to manufacturers to determine their own codes and provide decoding information to NHTSA upon request.

The third grouping may be used at the manufacturer's option to provide any other significant characteristics of the tire. Except for cases in which a tire is manufactured for a brand name owner, the third grouping is not required. As with the second grouping, a manufacturer must maintain information regarding the code used and provide it to NHTSA upon request.

The fourth and final grouping is the date code, which identifies the week and year during which the tire was manufactured. Although this code was originally three symbols, it has been expanded to four symbols. The first two symbols have always represented the week of manufacture. For example, “01” signifies that the tire was manufactured during the first full week of the year, “02” signifies that the tire was manufactured during the second full week of the year, and so on. The third and fourth symbols (originally only one symbol) must be the last two digits of the year of manufacture.

The TIN is required to be marked on at least one sidewall of each tire that is manufactured or retreaded. Manufacturers must use one of 30 alphanumeric symbols in the TIN. Certain letters such as G, I, O, Q, S, and Z are not allowed to be used because of the potential difficulty differentiating one symbol from another (for example, the number 5 and the letter S).

Generally, the TIN must be molded into or onto one sidewall of the tire. However, Federal Motor Vehicle Safety Standard (FMVSS) No. 139, which applies to radial tires for vehicles under 10,000 pounds GVWR, has an additional requirement that the other sidewall be labeled with either a full or partial TIN. A partial TIN excludes the date code and may also exclude any optional code, such as the third grouping of the TIN.

II. Creating New Tire Plant Codes for Manufacturers of New Tires

As stated above, NHTSA, through its Office of Vehicle Safety Compliance, issues new tire and retreaded tire plant codes to manufacturers who apply for them. For new tire manufacturers, who have a two-symbol code, the entire supply of 900 plant codes has been depleted.

In order to assign new plant codes, the agency has found it necessary to reissue previously issued, but currently unused plant codes. This shortage has arisen because of the increase in tire manufacturers. This increase is projected to continue. At the current rate of issuance of new plant codes, the agency projects that it will run out of reissuable plant codes in a few months. Once the supply of previously issued, but currently unused, plant codes is depleted, the agency would be forced to refuse to assign new plant codes or to assign identical plant codes to multiple manufacturers.

To enable the agency to issue new plant, the agency is proposing to change the two-symbol plant code to a three-symbol plant code. We believe that this is the best long-term solution to the lack of supply of new manufacturer plant codes.

Tire retreaders currently use a three-symbol plant code. The agency has assigned approximately 5,800 of the 27,000 possible three-symbol retreader plant codes. The agency issues new retreader codes at the rate of about 30 per year. After issuing new tire manufacturers three-symbol plant codes and reassigned three-symbol plant codes in place of the 900 two-symbol codes that have previously been issued to new manufacturers, there will still be 20,000 codes remaining for issuance. At the current rate of new plant code issuance, the agency will not run out of three-symbol manufacturer codes for decades, if not longer.

For new manufacturers and plants, the agency plans to begin issuing three-symbol plant codes immediately upon publication of a final rule implementing this proposal. For existing manufacturers with two-symbol plant codes, the agency is planning to issue new three-symbol plant codes in place of each two-symbol plant code. For nearly all manufacturers, the agency's will assign a “1” symbol in front of each existing two-symbol plant code.² For example, a manufacturer using two-symbol code “AB” will be assigned the three-symbol code “1AB”.

² NHTSA would directly contact any manufacturer whose three-symbol plant code is something other than a “1” in front of its existing two-symbol code.

III. Standardizing TIN Length

The length of a TIN is not currently standardized. The second and third groupings of the TIN are required to contain not more than two and four symbols, respectively. Thus, the total length of these two groupings may be between zero and six symbols, depending on whether the tire is new or retreaded and on decisions by the manufacturer regarding the inclusion of optional codes. For example, about 90% of the new tire market uses a two-symbol size code. However, a one-symbol size code is allowed. Very few tire retreaders use a size code at all because a size code is not required for retreaded tires. The third grouping is optional for all but non-pneumatic tire manufacturers, non-pneumatic tire assembly manufacturers, and tires manufactured for a brand name owner. Nevertheless, approximately 90% of the new tire market uses either three or four symbols in the third grouping. Based on all of the variations in TIN length allowed, a full TIN for new tires may be anywhere between 8 and 13 symbols.

The nonstandard length of the TIN becomes more complicated by the TIN marking requirements in FMVSS No. 139. As mentioned above, FMVSS No. 139 requires a full TIN to be marked on one side of the tire and either a full TIN or a partial TIN on the other side of the tire. A partial TIN excludes the four-symbol date code and any optional code. Thus, a partial TIN may be as short as three symbols (if a one-symbol size code is used with no third grouping) and as long as eight symbols (if a two-symbol size code is used and a four-symbol third grouping is used).

Because both a full TIN and partial TIN may be eight symbols in length, it may not always be clear whether an eight-symbol TIN obtained from one side of a tire meeting the requirements of FMVSS No. 139 is a full TIN or a partial TIN. To a trained observer of TINs, this would be a rare occurrence. The last four symbols in a full TIN representing the week and year of manufacture are always numeric. Nevertheless, we do not expect that everyone who records TINs for purposes such as crash reports or consumer complaints is likely to know the requirements for the various groupings of the TIN. By standardizing the length of the TIN, there will be no confusion that a nine-symbol TIN is a partial TIN and a 13-symbol TIN is a full TIN.

This NPRM would make the new standardized length TIN mandatory for manufacturers using a three-symbol plant code. Manufacturers who have previously been assigned a two-symbol plant code may continue to use the existing TIN grouping requirements (including the use of the optional codes) until they begin using a three-symbol plant code. This will allow manufacturers to begin using both the three-symbol plant code and the 13-symbol TIN at the same time.

As part of the effort to implement the standardized TIN length, we are proposing a reorganization of section 574.5 to make it easier to read. The proposal breaks up the section into multiple, shorter paragraphs with descriptive headings so that information regarding the TIN is easier to locate. This proposal also includes a plain language rewriting of the portions of the regulatory text that are not being substantively revised.

We have reviewed the various regulations regarding labeling the TIN on a tire and believe that no further amendments are necessary to conform with the proposed changes to Part 574. However, we seek comment on whether it is necessary to make any technical amendment to any of the tire labeling regulations in light of the proposed changes.

IV. Lead Time

It is the agency's intent that, if adopted, the amendments proposed in this NPRM would be effective immediately for new manufacturers and existing manufacturers opening new plants. Because the agency's supply of two-symbol plant codes is nearly exhausted, it will be necessary to assign three-symbol plant codes immediately upon issuance of a final rule implementing this proposal. Because new manufacturers could not have completed construction of molds or inserts for tires that will be manufactured in new plants before being issued a plant code by NHTSA, we expect that the adoption of this NPRM would not impose any costs, burdens, or hardship on these manufacturers.

For existing manufacturers currently using two-symbol plant codes, we recognize that immediately requiring the use of a three-symbol plant code and standardized TIN length would impose additional costs with little benefit. This NPRM proposes to make the use of the three-symbol plant code and standardized TIN length optional for existing manufacturers with two-symbol plant codes beginning immediately upon issuance of a final rule implementing this proposal. NHTSA is proposing that mandatory compliance with the use of the three-symbol plant code and 13-symbol TIN would be required beginning not sooner than five years after publication of a final rule implementing this proposal. This will give manufacturers sufficient lead time before they are required to use a three-symbol plant code and 13-symbol TIN.

The agency believes that the average life of a tire mold is approximately five years. Thus, a minimum of five years of lead time would allow manufacturers to adopt the three-symbol plant code and the standardized TIN length during the normal mold replacement cycle. We expect that a very small number of low-volume tire molds have longer life cycles and may not be replaced within five years. However, we believe those manufacturers may be able to comply with the proposed requirements by inserting the symbol “1” into existing molds in order to lengthen the plant code to three-symbols and insert any additional symbols necessary to make the TIN 13-symbols in length. We expect that this change could be made easily at little or no cost.

Because we believe existing molds can be modified with limited effort, we are not proposing any additional lead time for low production volume tire lines. Nevertheless, we request comment on whether the agency should provide additional lead time for low volume tire lines. Relief for low volume manufacturers could consist of longer lead time or a process to petition the agency for continued use of an existing plant code. We will also consider additional suggestions for how relief could be granted if necessary. We also request comment on the appropriate production threshold for determining whether a tire line could potentially be subject to any relief from the five-year lead time.

V. Public Participation

How long do I have to submit comments?

We are providing a 30-day comment period. The comment period is shorter than the customary 60-day comment period used by the agency because this proposal is merely a technical change to the TIN. We do not believe a longer comment period is necessary for the public to consider this proposal and respond to it. Moreover, the supply of manufacturer identifiers is nearly exhausted. A shorter comment period will allow us to issue a final rule more quickly to ensure that the supply of manufacturer identifiers is not fully exhausted.

How do I prepare and submit comments?

Your comments must be written and in English. To ensure that your comments are correctly filed in the Docket, please include the docket number of this document in your comments.

Your comments must not be more than 15 pages long (49 CFR 553.21). We established this limit to encourage you to write your primary comments in a concise fashion. However, you may attach necessary additional documents to your comments. There is no limit on the length of the attachments.

Please submit your comments electronically to the docket following the steps outlined under ADDRESSES. You may also submit two copies of your comments, including the attachments, by mail to Docket Management at the beginning of this document, under ADDRESSES.

How can I be sure that my comments were received?

If you wish to be notified upon receipt of your mailed comments, enclose a self-addressed, stamped postcard in the envelope containing your comments. Upon receiving your comments, Docket Management will return the postcard by mail.

How do I submit confidential business information?

If you wish to submit any information under a claim of confidentiality, you should submit the following to the NHTSA Office of Chief Counsel (NCC-110), 1200 New Jersey Avenue SE., Washington, DC 20590: (1) A complete copy of the submission; (2) a redacted copy of the submission with the confidential information removed; and (3) either a second complete copy or those portions of the submission containing the material for which confidential treatment is claimed and any additional information that you deem important to the Chief Counsel's consideration of your confidentiality claim. A request for confidential treatment that complies with 49 CFR Part 512 must accompany the complete submission provided to the Chief Counsel. For further information, submitters who plan to request confidential treatment for any portion of their submissions are advised to review 49 CFR Part 512, particularly those sections relating to document submission requirements. Failure to adhere to the requirements of Part 512 may result in the release of confidential information to the public docket. In addition, you should submit two copies from which you have deleted the claimed confidential business information, to Docket Management at the address given at the beginning of this document under ADDRESSES.

Will the agency consider late comments?

We will consider all comments received before the close of business on the comment closing date indicated at the beginning of this notice under DATES. In accordance with our policies, to the extent possible, we will also consider comments received after the specified comment closing date. If we receive a comment too late for us to consider in developing the proposed rule, we will consider that comment as an informal suggestion for future rulemaking action.

How can I read the comments submitted by other people?

You may read the comments received on the Internet. To read the comments on the Internet, go to http://www.regulations.gov and follow the on-line instructions provided.

You may download the comments. The comments are imaged documents, in either TIFF or PDF format. Please note that even after the comment closing date, we will continue to file relevant information in the Docket as it becomes available. Further, some people may submit late comments. Accordingly, we recommend that you periodically search the Docket for new material.

You may also see the comments at the address and times given near the beginning of this document under ADDRESSES.

VI. Rulemaking Analyses and Notices

A. Executive Order 12866, Executive Order 13563, and DOT Regulatory Policies and Procedures

NHTSA has considered the impact of this rulemaking action under Executive Order 12866, Executive Order 13563, and the Department of Transportation's regulatory policies and procedures. This rulemaking is not considered significant and was not reviewed by the Office of Management and Budget under E.O. 12866, “Regulatory Planning and Review.” The rulemaking action has also been determined not to be significant under the Department's regulatory policies and procedures. The agency has further determined that the impact of this proposal is so minimal as to not warrant the preparation of a full regulatory evaluation.

This proposal, if adopted, would impose at most negligible costs upon tire manufacturers. New tire manufacturers would be issued three-symbol plant codes immediately and would be required to use the standardized 13-symbol TIN. For these new manufacturers or existing manufacturers opening new plants, this changes proposed in this NPRM would not impose any costs. For existing plants, new tire manufacturers would be required to modify molds or manufacture new inserts to accommodate a three-symbol plant code and a 13-symbol TIN. However, this NPRM proposes a minimum of five years of lead time during which new tire manufacturers may continue to use their current two-symbol manufacturer codes and follow the current rules regarding the length of a TIN. Based on information obtained by NHTSA, the average life of a tire mold is five years. Thus, the changes to the TIN proposed in this NPRM could be made during the normal mold replacement cycle at a negligible cost.

We recognize that some low production volume tire sizes or models use molds for longer than five years. If adopted as proposed, this NPRM could impose costs on these manufacturers. However, the agency's intent is to add the symbol “1” in front of the existing plant code for nearly all manufacturers. We believe that this would mitigate any costs that may be imposed by this rule because the “1” symbol can be added to existing plant code inserts without having to modify the mold. Furthermore, 90% of tire manufacturers already use five or six symbols for the manufacturer's code. We expect that the manufacturers who use five symbols for the existing optional codes would be able to add an additional symbol, such as a “1” into the existing molds without substantial expense. Thus, we do not believe the elimination of the optional codes and the standardization of the length of the TIN would be difficult to accommodate within existing low production volume molds.

The safety benefits of this NPRM cannot be quantified. These proposed amendments would benefit the public in two ways. First, without expanding the plant code to three characters, the agency would need either to stop issuing new manufacturer codes or to issue identical codes to multiple manufacturers. Either of these approaches could lead to confusion in the identification of the manufacturer of a tire, particularly those tires that are manufactured for another brand name owner. Second, the standardization of the TIN length would eliminate the potential for confusion regarding whether a TIN is a full TIN or a partial TIN, which may assist consumers with identifying whether their tires may be subject to recall and may prevent crash investigators from recording partial TINs rather than full TINs on their reports.

B. Regulatory Flexibility Act

Pursuant to the Regulatory Flexibility Act (5 U.S.C. 601 et seq., as amended by the Small Business Regulatory Enforcement Fairness Act (SBREFA) of 1996), whenever an agency is required to publish a notice of rulemaking for any proposed or final rule, it must prepare and make available for public comment a regulatory flexibility analysis that describes the effect of the rule on small entities (i.e., small businesses, small organizations, and small governmental jurisdictions). The Small Business Administration's regulations at 13 CFR Part 121 define a small business, in part, as a business entity “which operates primarily within the United States.” (13 CFR 121.105(a)). No regulatory flexibility analysis is required if the head of an agency certifies the rule would not have a significant economic impact on a substantial number of small entities. SBREFA amended the Regulatory Flexibility Act to require Federal agencies to provide a statement of the factual basis for certifying that a rule would not have a significant economic impact on a substantial number of small entities.

NHTSA has considered the effects of this NPRM under the Regulatory Flexibility Act. I certify that this NPRM would not have a significant economic impact on a substantial number of small entities. This proposed rule would directly impact manufacturers and retreaders of tires for use on all motor vehicles. Although we believe many manufacturers affected by this proposal are considered small businesses, we do not believe this NPRM would have a significant economic impact on those manufacturers. As discussed above, NHTSA does not expect that this NPRM would impose substantial costs or burdens upon manufacturers. We expect that any changes that need to be made by manufacturers as a result of this NPRM would be done during the normal mold replacement cycle at no additional cost to manufacturers.

C. Executive Order 13132 (Federalism)

NHTSA has examined today's NPRM pursuant to Executive Order 13132 (64 FR 43255, August 10, 1999) and concluded that no additional consultation with States, local governments or their representatives is mandated beyond the rulemaking process. The agency has concluded that the rulemaking would not have sufficient federalism implications to warrant consultation with State and local officials or the preparation of a federalism summary impact statement. The final rule would not have “substantial direct effects on the States, on the relationship between the national government and the States, or on the distribution of power and responsibilities among the various levels of government.” The agency expects that general principles of preemption law would operate so as to displace any conflicting State law or regulations.

D. Executive Order 12988 (Civil Justice Reform)

With respect to the review of the promulgation of a new regulation, section 3(b) of Executive Order 12988, “Civil Justice Reform” (61 FR 4729; Feb. 7, 1996), requires that Executive agencies make every reasonable effort to ensure that the regulation: (1) Clearly specifies the preemptive effect; (2) clearly specifies the effect on existing Federal law or regulation; (3) provides a clear legal standard for affected conduct, while promoting simplification and burden reduction; (4) clearly specifies the retroactive effect, if any; (5) specifies whether administrative proceedings are to be required before parties file suit in court; (6) adequately defines key terms; and (7) addresses other important issues affecting clarity and general draftsmanship under any guidelines issued by the Attorney General. This document is consistent with that requirement.

Pursuant to this Order, NHTSA notes as follows. The issue of preemption is discussed above. NHTSA notes further that there is no requirement that individuals submit a petition for reconsideration or pursue other administrative proceedings before they may file suit in court.

E. Paperwork Reduction Act

Under the Paperwork Reduction Act of 1995 (PRA), a person is not required to respond to a collection of information by a Federal agency unless the collection displays a valid OMB control number. There is not any information collection requirement associated with this NPRM.

F. National Technology Transfer and Advancement Act

Section 12(d) of the National Technology Transfer and Advancement Act (NTTAA) requires NHTSA to evaluate and use existing voluntary consensus standards in its regulatory activities unless doing so would be inconsistent with applicable law (e.g., the statutory provisions regarding NHTSA's vehicle safety authority) or otherwise impractical. Voluntary consensus standards are technical standards developed or adopted by voluntary consensus standards bodies. Technical standards are defined by the NTTAA as “performance-based or design-specific technical specification and related management systems practices.” They pertain to “products and processes, such as size, strength, or technical performance of a product, process or material.”

Examples of organizations generally regarded as voluntary consensus standards bodies include ASTM International, the Society of Automotive Engineers (SAE), and the American National Standards Institute (ANSI). If NHTSA does not use available and potentially applicable voluntary consensus standards, we are required by the Act to provide Congress, through OMB, an explanation of the reasons for not using such standards.

There are no voluntary consensus standards developed by voluntary consensus standards bodies pertaining to this NPRM.

G. Unfunded Mandates Reform Act

Section 202 of the Unfunded Mandates Reform Act of 1995 (UMRA) requires federal agencies to prepare a written assessment of the costs, benefits, and other effects of proposed or final rules that include a Federal mandate likely to result in the expenditure by State, local, or tribal governments, in the aggregate, or by the private sector, of more than $100 million annually (adjusted for inflation with base year of 1995). Before promulgating a NHTSA rule for which a written statement is needed, section 205 of the UMRA generally requires the agency to identify and consider a reasonable number of regulatory alternatives and adopt the least costly, most cost-effective, or least burdensome alternative that achieves the objectives of the rule. The provisions of section 205 do not apply when they are inconsistent with applicable law. Moreover, section 205 allows the agency to adopt an alternative other than the least costly, most cost-effective, or least burdensome alternative if the agency publishes with the final rule an explanation of why that alternative was not adopted.

This NPRM would not result in any expenditure by State, local, or tribal governments or the private sector of more than $100 million, adjusted for inflation.

H. National Environmental Policy Act

NHTSA has analyzed this rulemaking action for the purposes of the National Environmental Policy Act. The agency has determined that implementation of this action would not have any significant impact on the quality of the human environment.

I. Plain Language

Executive Order 12866 requires each agency to write all rules in plain language. Application of the principles of plain language includes consideration of the following questions:

• Have we organized the material to suit the public's needs?

• Are the requirements in the rule clearly stated?

• Does the rule contain technical language or jargon that isn't clear?

• Would a different format (grouping and order of sections, use of headings, paragraphing) make the rule easier to understand?

• Would more (but shorter) sections be better?

• Could we improve clarity by adding tables, lists, or diagrams?

• What else could we do to make the rule easier to understand?

If you have any responses to these questions, please include them in your comments on this proposal.

J. Regulation Identifier Number (RIN)

The Department of Transportation assigns a regulation identifier number (RIN) to each regulatory action listed in the Unified Agenda of Federal Regulations. The Regulatory Information Service Center publishes the Unified Agenda in April and October of each year. You may use the RIN contained in the heading at the beginning of this document to find this action in the Unified Agenda.

K. Privacy Act

Anyone is able to search the electronic form of all comments received into any of our dockets by the name of the individual submitting the comment (or signing the comment, if submitted on behalf of an association, business, labor union, etc.). You may review DOT's complete Privacy Act Statement in the Federal Register published on April 11, 2000 (65 FR 19477-78).

List of Subjects in 49 CFR Part 574

Imports, Motor vehicle safety, Reporting and recordkeeping requirements, Tires.

In consideration of the foregoing, NHTSA proposes to amend 49 CFR Part 574 as follows:

PART 574—TIRE IDENTIFICATION AND RECORDKEEPING

1. The authority citation for part 574 of Title 49 is revised to read as follows:

Authority: 49 U.S.C. 322, 30111, 30115, 30117, and 30166; delegation of authority at 49 CFR 1.95

2. Revise §§ 574.5 and 574.6 to read as follows:

§ 574.5 Tire identification requirements.

(a) Tire identification number (TIN) labeling requirement.

(1) New tires. Each new tire manufacturer must conspicuously label on one sidewall of each tire it manufactures, except non-pneumatic tires or non-pneumatic tire assemblies, by permanently molding into or onto the sidewall, in the manner and location specified in Figure 1, a TIN consisting of 13 symbols and containing the information set forth in paragraphs (b)(1) through (b)(3) of this section. Note: The Federal Motor Vehicle Safety Standards may have more specific TIN marking requirements for some tires. See 49 CFR part 571.

(2) Retreaded tires. Each tire retreader must conspicuously label at least one sidewall of each tire it retreads by permanently molding or branding into or onto the sidewall, in the manner and location specified by Figure 2, a TIN consisting of seven symbols and containing the information set forth in paragraphs (b)(1) and (b)(3) of this section.

(3) Non-pneumatic tires and non-pneumatic tire assemblies. Each manufacturer of a non-pneumatic tire assembly must permanently mold, stamp, or otherwise permanently mark into or onto one side of the non-pneumatic tire or non-pneumatic tire assembly a TIN consisting of 13 symbols and containing the information set forth in paragraphs (b)(1) through (b)(3) of this section.

(4) Tires for mileage-contract purchasers. Manufacturers or retreaders of tires exclusively for mileage-contract purchasers may, instead of meeting any other requirements of this section, permanently mold into or onto the tire sidewall in lettering at least 13 mm (0.25 inch) high the phrase “for mileage contract use only”.

(5) Phase-out of two-symbol plant code. NHTSA will assign to tire manufacturers who were previously assigned a plant code consisting of two symbols prior to [publication of a final rule implementing this proposal] a new three-symbol plant code to replace each two-symbol plant code. A manufacturer may continue to use a previously assigned two-symbol plant code in place of the three-symbol plant code until [date that is at least five years after publication of a final rule implementing this proposal]. Manufacturers who use a two-symbol plant code must comply with paragraph (g) of this section in lieu of the requirements in paragraph (b) of this section. Retreaders may also optionally comply with paragraph (g) of this section in lieu of paragraph (b) of this section until [date that is at least five years after publication of a final rule implementing this proposal].

(b) TIN content requirements.

(1) Plant code. The plant code, consisting of three symbols, must be the first group of the TIN. The plant code represents the identity of the new tire manufacturer or retreader. The plant code is assigned to the manufacturer or retreader by NHTSA upon request. See § 574.6.

(2) Manufacturer's code. The manufacturer's code, consisting of six symbols, is the second group of the TIN for all new tires, but it cannot be used for retreaded tires. The manufacturer's code must be located between the plant code and the date code as shown in Figure 1. For new tires, the manufacturer's code may be used as a descriptive code for the purpose of identifying significant characteristics of the tire or to identify the brand name owner. For a new non-pneumatic tire or a non-pneumatic tire assembly, the manufacturer's code must identify the non-pneumatic tire identification code. Each manufacturer must maintain a detailed record of each manufacturer's code it uses with the corresponding tire size, tire characteristic, brand name owner, and non-pneumatic tire identification code as applicable and their respective meanings, which it must provide to NHTSA upon request.

(3) Date code. The date code, consisting of four numerical symbols, is the final group. The date code must identify the week and year of manufacture. The first and second symbols of the date code must identify the week of the year by using “01” for the first full calendar week in each year, “02” for the second full calendar week, and so on. The calendar week runs from Sunday through the following Saturday. The final week of each year may include no more than six days of the following year. The third and fourth symbols of the date code must identify the last two digits of the year of manufacture. For example, 0109 means the tire was manufactured in the first full calendar week of 2009, or the week beginning on Sunday, January 4, 2009, and ending on Saturday, January 10, 2009. The date code must be positioned as shown in Figures 1 or 2 for new tires and retreaded tires, respectively.

(c) Retreaded tire mark. The symbol “R” must be used to identify retreaded tires, and must be marked at the time of TIN marking in a location specified in Figure 2. The “R” is not part of the TIN.

(d) Method of marking.

(1) At the option of the manufacturer or retreader, the information contained in paragraph (b)(3) of this section may, instead of being permanently molded, be laser etched into or onto the sidewall in the location specified in Figures 1 or 2, respectively, during the manufacturing process of the tire and not later than 24 hours after the tire is removed from the mold.

(2) The labeling for a non-pneumatic tire or a non-pneumatic tire assembly must be in the manner specified in Figure 1 and positioned on the non-pneumatic tire or non-pneumatic tire assembly such that it is not placed on the tread or the outermost edge of the tire and is not obstructed by any portion of the non-pneumatic rim or wheel center member designated for use with that non-pneumatic tire in S4.4 of Standard No. 129 (49 CFR 571.129).

(e) The DOT symbol.

(1) The DOT symbol constitutes a certification that the marked tire conforms to an applicable Federal Motor Vehicle Safety Standard.

(2) If required, a manufacturer or retreader must place the DOT symbol as shown and positioned relative to the TIN in Figure 1 for new tires and as shown in Figure 2 for retreaded tires.

(3) The DOT symbol must not appear on tires to which no Federal Motor Vehicle Safety Standard is applicable, except that retreaders of tires for use on motor vehicles other than passenger cars may, prior to retreading, remove the DOT symbol from the sidewall or allow it to remain on the sidewall, at the retreader's option.

(f) Authorized symbols. The only symbols that manufacturers and retreaders are allowed to use in the tire identification number are: A, B, C, D, E, F, H, J, K, L, M, N, P, R, T, U, V, W, X, Y, 1, 2, 3, 4, 5, 6, 7, 8, 9, and 0.

(g) Phase-out of old TIN content requirement. The following requirements are applicable to tire manufacturers who were previously assigned two-symbol plant codes by NHTSA and to retreaders. A new tire manufacturer who continues to use a previously assigned two-symbol plant code in place of a new three-symbol plant code and a retreader may optionally comply with this paragraph instead of paragraph (b) of this section until [date that is at least five years after publication of a final rule implementing this proposal].

(1) First grouping. The plant code, consisting of two symbols, must be the first group of the TIN. The plant code represents the identity of the new tire manufacturer and was previously assigned to the manufacturer by NHTSA.

(2) Second grouping. For new tires, the second group, consisting of no more than two symbols, must be used to identify the tire size. For a non-pneumatic tire or non-pneumatic tire assembly, the second group, consisting of no more than two symbols, must be used to identify the non-pneumatic tire identification code. For retreaded tires, the second group, consisting of no more than two symbols, must identify the retread matrix in which the tire was processed or a tire size code if a matrix was not used to process the retreaded tire. Each new tire manufacturer and retreader must maintain a record of each symbol used, with the corresponding matrix or tire size, which it must provide to NHTSA upon request.

(3) Third grouping. The third group, consisting of no more than four symbols, may be used at the option of the manufacturer or retreader as a descriptive code for the purpose of identifying significant characteristics of the tire. However, if the tire is manufactured for a brand name owner, one of the functions of the third grouping must be to identify the brand name owner. Each manufacturer or retreader who uses the third grouping must maintain a detailed record of any descriptive brand name owner code used, which it must provide to NHTSA upon request.

(4) Fourth grouping. The date code, consisting of four numerical symbols, is the final group. The date code must identify the week and year of manufacture. The first and second symbols of the date code must identify the week of the year by using “01” for the first full calendar week in each year, “02” for the second full calendar week, and so on. The calendar week runs from Sunday through the following Saturday. The final week of each year may include no more than six days of the following year. The third and fourth symbols of the date code must identify the last two digits of the year of manufacture. For example, 0109 means the tire was manufactured in the first full calendar week of 2009, or the week beginning on Sunday, January 4, 2009, and ending on Saturday, January 10, 2009. The date code must be positioned as shown in Figures 1 or 2 for new tires and retreaded tires, respectively.

BILLING CODE 4910-59-P

§ 574.6 How to obtain a plant code.

To obtain a plant code required by § 574.5(b)(1), each manufacturer of new or retreaded pneumatic tires, non-pneumatic tires, or non-pneumatic tire assemblies must apply in writing to the Office of Vehicle Safety Compliance, National Highway Traffic Safety Administration, 1200 New Jersey Ave. SW., Washington, DC 20590, identify itself as a tire manufacturer or retreader, and furnish the following information:

(a) The name, or other designation identifying the applicant, and its main office address;

(b) The name, or other identifying designation, of each individual plant operated by the manufacturer and the address of each plant, if applicable;

(c) The name, or other identifying designation, of the corporate owner, if applicable, of each plant;

(d) The email addresses, phone numbers, and fax numbers for each person or corporation listed, including the main office; and

(e) The type of tires manufactured at each plant, e.g., pneumatic tires for passenger cars, buses, trucks, or motorcycles; pneumatic retreaded tires; or non-pneumatic tires or non-pneumatic tire assemblies.

Note to § 574.6: Additional requirements for new tire manufacturers may be applicable. See 49 CFR Parts 551 and 566.

Issued on July 18, 2014 in Washington, DC, under authority delegated in 49 CFR 1.95, 501.5, and 501.8.
James R. Tamm,
Acting Associate Administrator for Rulemaking.

[FR Doc. 2014-17413 Filed 7-23-14; 8:45 am]

BILLING CODE 4910-59-P